DEPARTMENT OF TRANSPORTATION

Federal Aviation Administration

14 CFR Part 71

[Airspace Docket No. 99-ANM-12]

Revision of Class E airspace, North Bend, OR

AGENCY: Federal Aviation Administration (FAA), DOT.

ACTION: Final rule.

SUMMARY: This action amends the North Bend, OR, Class E airspace to accommodate the development of a revised Standard Instrument Approach Procedure (SIAP) at the North Bend Municipal Airport, North Bend, OR. This amendment provides for the safe and efficient use of the navigable airspace.

EFFECTIVE DATE: 0901 UTC, August 10, 2000.

FOR FURTHER INFORMATION CONTACT: Brian Durham, ANM-520.7, Federal Aviation Administration, Docket No. 99-ANM-12, 1601 Lind Avenue SW, Renton, Washington 98055-4056; telephone number: (425) 227-2527.

SUPPLEMENTARY INFORMATION:

History

On April 4, 2000, the FAA proposes to amend Title 14, Code of Federal Regulations, part 71 (14 CFR part 71) by revising Class E airspace at North Bend, OR, in order to accommodate a revised SIAP to the North Bend Municipal Airport, North Bend, OR (65 FR 17616). This amendment will provide additional airspace at North Bend, OR, to meet current criteria standards associated with SIAP holding patterns. Interested parties were invited to participate in the rulemaking proceeding by submitting written comments on the proposal. No comments were received.

The Rule

This amendment to Title 14 Code of Federal Regulations, part 71 (14 CFR part 71) revises Class E airspace at North Bend Airport, North Bend, OR. This amendment provides revised airspace at North Bend, OR, to better meet current airspace standards associated with established procedures at North Bend Airport. The FAA establishes airspace where necessary to contain aircraft transitioning between the terminal and en route environments. This amendment provides for the safe and efficient use of the navigable airspace. This amendment promotes safe flight operations under Instrument Flight Rules (IFR) and Visual Flight Rules (VFR) and the North Bend Airport, North Bend, OR, and between the terminal and en route transition stages.

The area will be depicted on aeronautical charts for pilot reference. The coordinates for this airspace docket are based on North American Datum 83. Class E airspace areas extending upward from 700 feet or more above the surface of the earth are published in Paragraph 6005 of FAA Order 7400.9G, dated September 1, 1999, and effective September 16, 1999, which is incorporated by reference in 14 CFR 71.1. The Class E airspace designation listed in this document will be published subsequently in the Order.

The FAA has determined this regulation only involves an established body of technical regulations for which frequent and routine amendments are necessary to keep them operationally current. It, therefore, (1) Is not a “significant regulatory action” under Executive Order 12866; (2) is not a “significant rule” under DOT Regulatory Policies and Procedures (44 FR 11034; February 26, 1979); and (3) does not warrant preparation of a Regulatory Evaluation as the anticipated impact is so minimal. Since this is a routine matter that will only affect air traffic procedures and air navigation, it is certified that this rule, when promulgated, will not have a significant economic impact on a substantial number of small entities under the criteria of the Regulatory Flexibility Act.

List of Subjects in 14 CFR Part 71

Airspace, Incorporation by reference, Navigation (air).

Adoption of the Amendment

In consideration of the foregoing, the Federal Aviation Administration amends 14 CFR part 71 as follows:

PART 71—DESIGNATION OF CLASS A, CLASS B, CLASS C, CLASS D, AND CLASS E AIRSPACE AREAS; AIRWAYS; ROUTES; AND REPORTING POINTS

1. The authority citation for 14 CFR part 71 continues to read as follows:

Authority: 49 U.S.C. 106(g), 40103, 40113, 40120; E.O. 10854, 24 FR 9565, 3 CFR, 1959-1963 Comp., p. 389.

§ 71.1 [Amended]

2. The incorporation by reference in 14 CFR 71.1 of the Federal Aviation Administration Order 7400.9G, Airspace Designations and Reporting Points, dated September 1, 1999, and effective September 16, 1999, is amended as follows:

Paragraph 6005 Class E airspace areas extending upward from 700 feet or more above the surface of the earth.

* * * * *

ANM or E5 North Bend, OR [Revised]

North Bend VORTAC

(Lat. 43°24′56″ N, long. 124°10′06″ W)

That airspace extending upward from 700 feet above the surface within an 8 mile radius of the North Bend VORTAC from the 142° radial clockwise to the 352° radial, and within a 14-mile radius of the VORTEC from the 352° radial clockwise to the 142° radial, and within 2.7 miles north of the VORTAC 268° radial extending from the 8 mile radius to 11 miles west of the VORTAC, and within 1.8 miles south and 5.7 miles north of the VORTAC 241° radial extending from the 8 mile radius to 14.8 miles southwest; that airspace extending upward from 1,200 feet about the surface within a 22 mile radius of the VORTAC extending clockwise from the west edge of V-27 south of the VORTAC, to the west edge of V-287 north of the VORTAC, and within 2.2 miles southeast and 10.1 miles northwest of the VORTAC 241° radial, extending from the VORTAC to 22.2 miles southwest.

* * * * *

Issued in Seattle, Washington, on July 6, 2000.
Daniel A. Boyle,
Acting Manager, Air Traffic Division, Northwest Mountain Region.

[FR Doc. 00-18577 Filed 7-24-00; 8:45 am]

BILLING CODE 4910-13-M